ARCHITECTURAL AND TRANSPORTATION BARRIERS COMPLIANCE BOARD

36 CFR Part 1192

[Docket No. ATBCB-2020-0002]

RIN 3014-AA42

Americans With Disabilities Act Accessibility Guidelines for Transportation Vehicles; Rail Vehicles

AGENCY: Architectural and Transportation Barriers Compliance Board.

ACTION: Notice of hearing.

SUMMARY: Notice is hereby given that the Architectural and Transportation Barriers Compliance Board (Access Board) will hold a public hearing to gather information and hear public comment on its recently published advance notice of proposed rulemaking concerning updates to our existing guidelines for rail vehicles covered by the Americans With Disabilities Act.

DATES: The hearing will be held on March 10, 2020, from 2:00 p.m. to 4:00 p.m.

ADDRESSES: The hearing will be held in the Access Board Conference Room, 1331 F Street NW, Suite 800, Washington, DC 20004.

FOR FURTHER INFORMATION CONTACT: Technical information: Juliet Shoultz, (202) 272-0045, Email: shoultz@access-board.gov. Legal information: Wendy Marshall, (202) 272-0043, Email: marshall@access-board.gov.

SUPPLEMENTARY INFORMATION: On February 14, 2020, the Access Board published an advance notice of proposed rulemaking in the Federal Register to begin the process of updating our accessibility guidelines for rail vehicles. (85 FR 8516) (“Rail ANPRM”). The period for submission of written comments in response to the Rail ANPRM closes on May 14, 2020.

To gather additional information and hear public comment on the Rail ANPRM, the Access Board will hold a hearing in Washington, DC on March 10, 2020 from 2:00 p.m. to 4 p.m. to hear testimony from interested members of the public. Persons interested in speaking are encouraged to pre-register by contacting Rose Marie Bunales at (202) 272-0006 or bunales@access-board.gov by March 6. Testimony may be provided in person or by telephone. Individuals who pre-register will be scheduled to speak first. Oral comments may be limited by the time available, depending on the number of persons who register. Call-in information for speakers and a communication access real-time translation (CART) web streaming link will be posted on the Access Board's website at https://www.access-board.gov/news/1984-rail-anprm.

Board members may question speakers during the hearing to the extent deemed appropriate. All comments received will be posted without change to the rulemaking docket for the Rail ANPRM (ATBCB-2020-0002) at http://www.regulations.gov, including any personal information provided.

The hearing will be accessible to persons with disabilities. An assistive listening system, communication access real-time translation, and sign language interpreters will be provided. Persons attending the hearing are requested to refrain from using perfume, cologne, and other fragrances for the comfort of other participants (see http://www.access-board.gov/the-board/policies/fragrance-free-environment for more information).

David M. Capozzi,
Executive Director.

[FR Doc. 2020-03906 Filed 2-26-20; 8:45 am]

BILLING CODE 8150-01-P